DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security.

Title: Additional Protocol to the U.S.-IAEA Safeguards Agreement Report Forms.

Form Number(s): N/A.

OMB Control Number: 0694-0135.

Type of Review: Regular submission.

Estimated Total Annual Burden Hours: 844.

Estimated Number of Respondents: 500.

Estimated Time per Response: 22 minutes to 6 hours.

Needs and Uses: This collection covers information concerning Additional Protocols required from the United States to submit declaration forms to the IAEA on a number of commercial nuclear and nuclear-related items, materials, and activities that may be used for peaceful nuclear purposes, but also would be necessary elements for a nuclear weapons program.

Affected Public: Business or other for-profit organizations.

Frequency: On Occasion.

Respondent's Obligation: Voluntary.

This information collection request may be viewed at reginfo.gov http://www.reginfo.gov/public/. Follow the instructions to view Department of Commerce collections currently under review by OMB.

Written comments and recommendations for the proposed information collection should be sent within 30 days of publication of this notice to OIRA_Submission@omb.eop.gov.

Sheleen Dumas,
Departmental PRA Lead, Office of the Chief Information Officer.

[FR Doc. 2017-18981 Filed 9-6-17; 8:45 am]

BILLING CODE 3510-33-P